DEPARTMENT OF COMMERCE

National Oceanic and Atmospheric Administration

RIN 0648-BA75

Atlantic Highly Migratory Species; Electronic Dealer Reporting System Workshop

AGENCY: National Marine Fisheries Service (NMFS), National Oceanic and Atmospheric Administration (NOAA), Commerce.

ACTION: Notice of public workshops.

SUMMARY: On June 28, 2011, NMFS published a proposed rule that considered requiring, among other things, Federal Atlantic swordfish, shark, and tunas dealers (except for dealers reporting Atlantic bluefin tuna) to report commercially-harvested Atlantic sharks, swordfish, and bigeye, albacore, yellowfin, and skipjack (BAYS) tunas through one centralized electronic reporting system. This electronic reporting system will allow dealers to submit Atlantic sharks, swordfish, and BAYS tuna data on a more real-time basis and more efficiently, which will reduce duplicative data submissions from different regions. We proposed to delay the effective date of the electronic reporting requirements until 2013 in order to give sufficient time for dealers to adjust to implementation of the new system and the additional requirements. On June 29, 2012, we announced the date and location for nine upcoming workshops in the Caribbean, Gulf of Mexico, and Atlantic area to introduce the new reporting system to Highly Migratory Species (HMS) dealers. In this notice, we announce the date and location for an additional training workshop in the Caribbean.

DATES: The additional training workshop for the new HMS electronic dealer system will be held on August 29, 2012, from 1:30 to 4:30 p.m. See SUPPLEMENTARY INFORMATION for additional details.

ADDRESSES: The training workshop will be held in St. Thomas, United States Virgin Islands (U.S.V.I.) at the following address: Department of Planning and Natural Resources, Office of the Commissioner, 8100 Lindberg Bay, Suite #61, Cyril E. King Airport, Terminal Bldg., Second Floor, St. Thomas, U.S.V.I., 00802. See SUPPLEMENTARY INFORMATION for additional details.

FOR FURTHER INFORMATION CONTACT: Delisse Ortiz or Karyl Brewster-Geisz at (301) 427-8503 (phone); or Jackie Wilson at (240) 338-3936, or (301) 713-1917 (fax); or http://www.nmfs.noaa.gov/sfa/hms/index.htm.

SUPPLEMENTARY INFORMATION: Atlantic HMS are managed under the dual authority of the Magnuson-Stevens Fishery Conservation and Management Act (Magnuson-Stevens Act), 16 U.S.C. 1801 et seq., and the Atlantic Tunas Convention Act, 16 U.S.C. 971 et seq. Under the Magnuson-Stevens Act, NMFS must ensure consistency with the National Standards and manage fisheries to maintain optimum yield, rebuild overfished fisheries, and prevent overfishing. Atlantic Tunas Convention Act authorizes the Secretary of Commerce to promulgate regulations, as may be necessary and appropriate, to implement the recommendations adopted by the International Commission for the Conservation of Atlantic Tunas. The authority to issue regulations under Magnuson-Stevens Act and Atlantic Tunas Convention Act has been delegated from the Secretary to the Assistant Administrator for Fisheries, NOAA. The implementing regulations for Atlantic HMS are at 50 CFR part 635.

Background

The current regulations and infrastructure of the Atlantic HMS quota-monitoring systems result in a delay of several weeks or more before NMFS receives dealer data. This can affect management and monitoring of small Atlantic HMS quotas and short fishing seasons. As such, on June 28, 2011 (76 FR 37750), we published a proposed rule in the Federal Register that considered requiring, among other things, Federal Atlantic swordfish, shark, and tunas dealers (except for dealers reporting Atlantic bluefin tuna) to report commercially-harvested Atlantic sharks, swordfish, and BAYS tunas through one centralized electronic reporting system. Under this new system, dealers would submit HMS data electronically (instead of in a paper format) and include additional information that is necessary for management of HMS (e.g., vessel and logbook information). The electronic submission of data will eliminate the delay associated with mailing in hardcopy reports. In this manner, HMS landings data will be submitted on a more real-time basis, allowing for timely and efficient data collection for management of Atlantic HMS.

In order to give sufficient time for dealers to adjust to implementation of the new system and the additional requirements, we proposed delaying implementation of the new HMS electronic reporting system for all federally-permitted HMS dealers until 2013. Additionally, we decided to conduct outreach to HMS dealers to train them how to use the new system and help ease the transition from the current paper format to the new HMS electronic reporting system. On December 14, 2011, we conducted an initial training workshop for HMS dealers in St. Thomas, U.S.V.I. On June 29, 2012, we announced the date and location for nine upcoming workshops in the Caribbean, Gulf of Mexico, and Atlantic area to introduce the new reporting system to HMS dealers. In this notice, we announce the date and location for an additional training workshop in St. Thomas, U.S.V.I. Future training workshops will be held throughout the Northeast, Mid-Atlantic and Southeast regions at a later date and will be announced in a future notice.

These workshops will be physically accessible to people with disabilities. Requests for sign language interpretation or other auxiliary aids should be directed to Delisse Ortiz at (301) 425-8503, or Jackie Wilson at (240) 338-3936, at least 7 days prior to the workshop date. The public is reminded that NMFS expects participants at the workshop to conduct themselves appropriately. At the beginning of the workshop, a representative of NMFS will explain the ground rules (e.g., alcohol is prohibited from the hearing room; each attendee will have an opportunity to ask questions; and attendees should not interrupt one another). Attendees are expected to respect the ground rules; if they do not, they will be asked to leave the workshop.

Authority: 16 U.S.C, 1801 et seq.

Dated: July 25, 2012.
James P. Burgess,
Acting Deputy Director, Office of Sustainable Fisheries, National Marine Fisheries Service.

[FR Doc. 2012-18534 Filed 7-27-12; 8:45 am]

BILLING CODE 3510-22-P